DEPARTMENT OF COMMERCE

International Trade Administration

[A-201-837; A-570-954; C-570-955]

Certain Magnesia Carbon Bricks From Mexico and the People's Republic of China: Continuation of Antidumping Duty Orders and Countervailing Duty Order

AGENCY: Enforcement and Compliance, International Trade Administration, Department of Commerce.

SUMMARY: As a result of the determinations by the Department of Commerce (Commerce) and the International Trade Commission (ITC) that revocation of the antidumping duty (AD) orders on certain magnesia carbon bricks (MCBs) from Mexico and the People's Republic of China (China) and the countervailing duty (CVD) order on MCBs from China would be likely to lead to continuation or recurrence of dumping, net countervailable subsidies, and injury to an industry in the United States, Commerce is publishing a notice of continuation of these AD and CVD orders.

DATES: Applicable August 19, 2021.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On September 20, 2010, Commerce published its AD and CVD orders on MCBs from China and Mexico.¹ On January 4, 2021, Commerce published the notice of initiation of the second sunset review of the Orders, pursuant to section 751(c) of the Tariff Act of 1930, as amended (the Act).² As a result of its review, Commerce determined that revocation of the AD orders would likely lead to a continuation or recurrence of dumping and that revocation of the CVD order would likely lead to continuation or recurrence of countervailable subsidies. Commerce, therefore, notified the ITC of the magnitude of the margins and net countervailable subsidy rates likely to prevail should the AD and CVD orders be revoked.³

¹ See Certain Magnesia Carbon Bricks from Mexico and the People's Republic of China: Antidumping Duty Orders, 75 FR 57257 (September 20, 2010); see also Certain Magnesia Carbon Bricks from the People's Republic of China: Countervailing Duty Order, 75 FR 57442 (September 20, 2010) (collectively, Orders).

² See Initiation of Five-Year (Sunset) Review, 86 FR 60 (January 4, 2021).

³ See Certain Magnesia Carbon Bricks from Mexico and the People's Republic of China: Final Results of the Expedited Second Sunset Reviews of the Antidumping Duty Orders, 86 FR 24847 (May 10, 2021).

On August 3, 2021, the ITC published notice of its determination, pursuant to section 751(c) of the Act, that revocation of the AD and CVD orders on MCBs from Mexico and China would likely lead to a continuation or recurrence of material injury to an industry in the United States within a reasonably foreseeable time.⁴

⁴ See Certain Magnesia Carbon Bricks from China and Mexico, Invs. 701-TA-468 and 731-TA-1166-1167 (Second Review), USITC Publication 5223 (August 3, 2021).

Scope of the Orders

The scope of these Orders includes certain chemically bonded (resin or pitch), magnesia carbon bricks with a magnesia component of at least 70 percent magnesia (MgO) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides).

Certain magnesia carbon bricks that are the subject of these Orders are currently classifiable under subheadings 6902.10.1000, 6902.10.5000, 6815.91.0000, 6815.99.2000 and 6815.99.4000 of the Harmonized Tariff Schedule of the United States (HTSUS). While HTSUS subheadings are provided for convenience and customs purposes, the written description is dispositive.

Continuation of the Orders

As a result of the determinations by Commerce and the ITC that revocation of the AD and CVD orders would likely lead to a continuation or recurrence of dumping and countervailable subsidies and material injury to an industry in the United States, pursuant to section 751(d)(2) of the Act and 19 CFR 351.218(a), Commerce hereby orders the continuation of the Orders. U.S. Customs and Border Protection will continue to collect AD and CVD duty cash deposits at the rates in effect at the time of entry for all imports of subject merchandise. The effective date of the continuation of the Orders will be the date of publication in the Federal Register of this notice of continuation. Pursuant to section 751(c)(2) of the Act, Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year sunset reviews and this notice are in accordance with section 751(c) and 751(d)(2) of the Act and published pursuant to section 777(i)(1) of the Act and 19 CFR 351.218(f)(4).

Dated: August 13, 2021.
Christian Marsh,
Acting Assistant Secretary for Enforcement and Compliance.

[FR Doc. 2021-17790 Filed 8-18-21; 8:45 am]

BILLING CODE 3510-DS-P